DEPARTMENT OF COMMERCE

International Trade Administration

[A-570-970]

Multilayered Wood Flooring From the People's Republic of China: Final Results and Partial Rescission of Antidumping Duty New Shipper Reviews; 2014-2015

AGENCY: Enforcement and Compliance, International Trade Administration, Commerce.

SUMMARY: On December 28, 2016, the Department of Commerce (the Department) published the preliminary results, and partial rescission, of the new shipper reviews of the antidumping duty (AD) order on multilayered wood flooring (MLWF) from the People's Republic of China (PRC). Based on our analysis of the comments received, we continue to find Zhejiang Simite Wooden Co., Ltd.'s (Simite Wooden) sale to be non-bona fide. Therefore, we are rescinding the new shipper review (NSR) with respect to Simite Wooden. We also continue to find that Jiangsu Keri Wood Co., Ltd. (Keri Wood) did not make a sale at less than normal value (NV), and is eligible for a separate rate. The final dumping margin for Keri Wood is listed in the “Final Results of Kerri Wood's New Shipper Review” section of this notice, below.

DATES: Effective June 5, 2017.

FOR FURTHER INFORMATION CONTACT: Maisha Cryor, AD/CVD Operations, Office IV, Enforcement and Compliance, International Trade Administration, U.S. Department of Commerce, 1401 Constitution Avenue NW., Washington, DC 20230; telephone: (202) 482-5831.

SUPPLEMENTARY INFORMATION:

Background

On December 28, 2016, the Department published its Preliminary Results ¹ of the NSRs of the AD order on MLWF from the PRC. The period of review (POR) for the new shipper reviews (NSR) is December 1, 2014, through November 30, 2015. These reviews cover two producers/exporters of subject merchandise: Simite Wooden and Keri Wood.² As discussed below, we preliminarily found that the single sale made by Simite Wooden is not bona fide, and announced our preliminary intent to rescind its NSR. We also preliminarily determined that Keri Wood made a single bona fide sale which was not below NV and that it is eligible for a separate rate. Simite Wooden submitted its case brief on February 17, 2017.³ For the final results of this review, although we have made certain further adjustments to our bona fide analysis for Simite Wooden, we continue to find Simite Wooden's sale to be non-bona fide. Therefore, we are rescinding the NSR with respect to Simite Wooden. We also continue to find that Keri Wood did not make a sale at less than NV and is eligible for a separate rate. Therefore, with respect to Keri Wood, our final results remain unchanged from the Preliminary Results.

¹ See Multilayered Wood Flooring from the People's Republic of China: Preliminary Results and Partial Rescission of Antidumping Duty New Shipper Reviews; 2014-2015, 81 FR 95566 (December 28, 2016) (Preliminary Results); see also Memorandum to Abdelali Elouaradia, Director, Enforcement and Compliance, Office IV, from Maisha Cryor, International Trade Compliance Analyst, Enforcement and Compliance, Office IV entitled “Antidumping Duty New Shipper Review of Multilayered Wood Flooring from the People's Republic of China: Preliminary Bona Fide Sale Analysis for Zhejiang Simite Wooden Co., Ltd., dated December 20, 2016 (Simite Wooden Prelim Bona Fide Memo); Memorandum from Christian Marsh, Deputy Assistant Secretary for Antidumping and Countervailing Duty Operations, to Paul Piquado, Assistant Secretary for Enforcement and Compliance, “Decision Memorandum for Preliminary Results and Rescission, In Part, of Antidumping Duty New Shipper Reviews, 2014-2015: Mutilayered Wood Flooring from the People's Republic of China,” dated December 20, 2016 (Preliminary Decision Memorandum).

² See Preliminary Results.

³ See Letter from Simite Wooden to the Secretary of Commerce, “Multilayered Wood Flooring from the People's Republic of China; A-570-970; New Shipper Review of Zhejiang Simite Wooden Co., Ltd.; Case Brief,” dated February 17, 2017.

For a complete description of the events that followed the publication of the Preliminary Results, see the Issues and Decision Memorandum.⁴ The Issues and Decision Memorandum is a public document and is on file electronically via Enforcement and Compliance's AD and Countervailing Duty (CVD) Centralized Electronic Service System (ACCESS). ACCESS is available to registered users at http://access.trade.gov and in the Central Records Unit, room B8024 of the main Department of Commerce building. In addition, a complete version of the Issues and Decision Memorandum can be accessed directly at http://enforcement.trade.gov/frn/index.html. The signed Issues and Decision Memorandum and the electronic version of the Issues and Decision Memorandum are identical in content.

⁴ See Memorandum from Gary Taveramn, Acting Deputy Assistant Secretary, Antidumping and Countervailing Operations, to Ronald K. Lorentzen, Acting Assistant Secretary for Enforcement and Compliance, entitled ” Issues and Decision Memorandum for the Final Results and the Partial Rescission of the 2014-2015 Antidumping Duty New Shipper Reviews: Multilayered Wood Flooring from the People's Republic of China” issued concurrently with and hereby adopted by this notice (Issues and Decision Memorandum).

Scope of the Order

The merchandise covered by the order includes MLWF, subject to certain exceptions.⁵ Imports of the subject merchandise are provided for under the following subheadings of the Harmonized Tariff Schedule of the United States (HTSUS): 4412.31.0520; 4412.31.0540; 4412.31.0560; 4412.31.2510; 4412.31.2520; 4412.31.3175; 4412.31.4040; 4412.31.4050; 4412.31.4060; 4412.31.4070; 4412.31.4075; 4412.31.4080; 4412.31.5125; 4412.31.5135; 4412.31.5155; 4412.31.5165; 4412.31.5175; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500.

⁵ Id.

While HTSUS subheadings are provided for convenience and customs purposes, the written description of the subject merchandise is dispositive.

Analysis of Comments Received

All issues raised in the case brief submitted by Simite Wooden are addressed in the Issues and Decision Memorandum.⁶ A list of the issues which parties raised is attached to this notice as an Appendix.

⁶ Id.

Final Rescission of Simite Wooden's New Shipper Review

In the Preliminary Results, the Department analyzed the bona fides of Simite Wooden's sale and preliminarily found it was not a bona fide sale.⁷ Based on the Department's analysis of all of the comments and record evidence of this review, the Department has made certain changes to its analysis, but still continues to find that Simite Wooden's sale is not a bona fide sale. Accordingly, we have determined to rescind this NSR with respect to Simite Wooden.

⁷ See Simite Wooden Prelim Bona Fide Memo.

For a complete discussion, see the Simite Wooden Prelim Bona Fide Memo and the Issues and Decision Memorandum.

Final Results of Kerri Wood's New Shipper Review

No party filed a case brief in response to the Department's invitation to comment on the Preliminary Results with respect to our findings for Keri Wood. Therefore, for these final results, the Department has made no changes to its calculations announced in the Preliminary Results for this company. For the final results of Kerri Wood's new shipper review, the Department continues to determine that the following weighted-average dumping margin exists for the POR from December 1, 2014, through November 30, 2015:

Exporter | Producer | Weighted- average dumping margin (percent)
Jiangsu Keri Wood Co., Ltd | Jiangsu Keri Wood Co., Ltd | 0.00

Assessment

The Department will determine, and U.S. Customs and Border Protection (CBP) shall assess, antidumping duties on all appropriate entries covered by the NSR with respect to Keri Wood.⁸ The Department intends to issue assessment instructions to CBP 15 days after the date of publication of these final results of review. The Department intends to instruct CBP to liquidate entries of subject merchandise Keri Wood without regard to antidumping duties because its weighted-average dumping margin in these final results is zero.⁹ For entries that were not reported in the U.S. sales data submitted by Keri Wood, the Department intends to instruct CBP to liquidate such entries at the rate for the PRC-wide entity.¹⁰

⁸ See 19 CFR 351.212(b)(1).

⁹ See Antidumping Proceeding: Calculation of the Weighted-Average Dumping Margin and Assessment Rate in Certain Antidumping Duty Proceedings; Final Modification, 77 FR 8101 (February 14, 2012) (Final Modification).

¹⁰ For a full discussion of this practice, see Non-Market Economy Antidumping Proceedings: Assessment of Antidumping Duties, 76 FR 65694 (October 24, 2011).

As the Department is rescinding the NSR with respect to Simite Wooden, we have not calculated a company-specific dumping margin for Simite Wooden. Simite Wooden's entries covered by this NSR will be assessed at the cash deposit rate required at the time of entry, which is the PRC-wide rate (i.e., 25.62 percent).

Cash Deposit Requirements

The following cash deposit requirements will be effective upon publication of the final results and partial rescission of this NSR for shipments of the subject merchandise from the PRC entered, or withdrawn from warehouse, for consumption on or after the publication date, as provided by section 751(a)(2)(C) of the Act. For Kerri Wood, because it has received a separate rate, and the rate established in the final results of this NSR is zero, a zero cash deposit will be required. For Simite Wooden, the Department will instruct CBP to discontinue the option of posting a bond or security in lieu of a cash deposit for entries of subject merchandise from Simite Wooden. Because we did not calculate a dumping margin for Simite Wooden or otherwise find that Simite Wooden is eligible for a separate rate in this review, Simite Wooden continues to be part of the PRC-wide entity. The cash deposit rate for the PRC-wide entity is 25.62 percent. These cash deposit requirements shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to Administrative Protective Order (APO) of their responsibility concerning the return or destruction of proprietary information disclosed under APO in accordance with 19 CFR 351.305, which continues to govern business proprietary information in these segments of the proceeding. Timely written notification of the return or destruction of APO materials, or conversion to judicial protective order, is hereby requested. Failure to comply with the regulations and terms of an APO is a violation which is subject to sanction.

We are issuing and publishing this notice in accordance with sections 751(a)(2)(B) and (C) and 777(i) of the Act, and 19 CFR 351.214.

Dated: May 26, 2017.
Ronald K. Lorentzen,
Acting Assistant Secretary for Enforcement and Compliance.

Appendix—Issues and Decision Memorandum

Summary

Background

Scope of the Order

Discussion of the Issues

Comment 1: Whether the Department's Calculation of Ocean Freight was Incorrect

Comment 2: Whether the control number used by the Department for comparison purposes was the best match

Comment 3: Whether the Department should further adjust the prices of Penghong and Fine Furniture in making a comparison

Comment 4: Whether Simite Wooden's sale price is within the range of the minimum and maximum prices of the AR3 respondents and is reasonable

Comment 5: Whether physical differences account for price differences

Comment 6: Whether the totality of the facts indicate that the sale was bona fide

Comment 7: Whether the Department made procedural errors in conducting this review

Comment 8: Whether the Department Should Assign Simite Wooden a separate rate

Recommendation

[FR Doc. 2017-11560 Filed 6-2-17; 8:45 am]

BILLING CODE 3510-DS-P